DEPARTMENT OF COMMERCE

National Oceanic and Atmospheric Administration

RIN 0648-XA706

New England Fishery Management Council; Public Meeting

AGENCY: National Marine Fisheries Service (NMFS), National Oceanic and Atmospheric Administration (NOAA), Commerce.

ACTION: Notice; public meeting.

SUMMARY: The New England Fishery Management Council's (Council) Groundfish Committee will meet to consider actions affecting New England fisheries in the exclusive economic zone (EEZ).

DATES: The meeting will be held on Wednesday, October 5, 2011 at 9 a.m.

ADDRESSES: The meeting will be held at the Spring Hill Suites, 43 Newbury Street, Peabody, MA 01960; telephone: (978) 535-5000; fax: (978) 535-9610.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

The Groundfish Oversight Committee will meet to continue development of Framework Adjustment 47 (FW 47) to the Northeast Multispecies Fishery Management Plan (FMP). The Committee will discuss Acceptable Biological Catch (ABCs) and Annual Catch Limits (ACLs) for FY 2012-14. This may include consideration of a sub-ACL of Southern New England windowpane flounder for the scallop fishery as well as other changes to the ACLs. They will also continue development of accountability measures for ocean pout, Atlantic wolffish, Atlantic halibut, and both windowpane flounder stocks. Other measures in FW 47 may also be discussed, including the proposed elimination of the cap on yellowtail flounder that can be caught by the scallop fishery in access areas. The Committee may continue planning for a sector workshop to be held in October and scoping for an amendment on accumulation limits. The Committee may also develop recommendations for Council priorities for the next year. Other business may also be discussed.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: September 13, 2011.
Tracey L. Thompson,
Acting Director, Office of Sustainable Fisheries, National Marine Fisheries Service.

[FR Doc. 2011-23773 Filed 9-15-11; 8:45 am]

BILLING CODE 3510-22-P